DEPARTMENT OF ENERGY

Implementing the National Broadband Plan by Studying the Communications Requirements of Electric Utilities To Inform Federal Smart Grid Policy

AGENCY: Department of Energy.

ACTION: Request for information (RFI).

SUMMARY: The Department of Energy (DOE) is seeking comments and information from interested parties to assist DOE in understanding the communications requirements of utilities, including, but not limited to, the requirements of the Smart Grid. This RFI also seeks to collect information about electricity infrastructure's current and projected communications requirements, as well as the types of networks and communications services that may be used for grid modernization. Specifically, DOE seeks information on what types of communications capabilities that the utilities think that they will need and what type of communications capabilities that the communications carriers think that they can provide.

DATES: Comments must be postmarked by no later than July 12, 2010. Reply comments must be postmarked by no later than July 26, 2010.

ADDRESSES: You may submit comments, identified by “NBP RFI: Communications Requirements,” by any of the following methods:

Federal eRulemaking Portal: http://www.regulations.gov. Follow the instructions for submitting comments.

E-mail: broadband@hq.doe.gov. Include “NBP RFI: Communications Requirements” in the subject line of the message.

Mail: U.S. Department of Energy, Office of the General Counsel, 1000 Independence Avenue, SW., Room 6A245, Washington, DC 20585.

FOR FURTHER INFORMATION CONTACT: Maureen C. McLaughlin, Senior Legal Advisor to the General Counsel (202) 586-5281; broadband@hq.doe.gov.

For Media Inquiries you may contact Jen Stutsman at 202-586-4940.

SUPPLEMENTARY INFORMATION:

Background

In early 2009, Congress directed the Federal Communications Commission (FCC) to create the recently released National Broadband Plan (NBP).¹ As Congress instructed, the NBP makes recommendations to various government entities, including Executive Branch agencies like DOE. In particular, the NBP recommended that DOE, in collaboration with the FCC, should conduct a thorough study of the communications requirements of electric utilities, including, but not limited to, the requirements of the Smart Grid.² As the National Broadband Plan correctly notes, understanding the evolving communications requirements of electric utilities and other energy infrastructure entities will help in developing informed Smart Grid policies for the nation. Therefore, DOE seeks to collect information about current and projected communications requirements in sustaining and modernizing the grid, as well as the types of networks and communications services that may be used. Specifically, DOE seeks information on what types of communications capabilities that the utilities think that they will need and what type of communications capabilities that the communications carriers think that they can provide.

¹ Fed. Commc'n Comm'n, The National Broadband Plan: Connecting America, http://www.broadband.gov (last visited Apr. 26, 2010).

² Id. at Recommendation 12.6.

A Smart Grid uses information and communications technologies to improve the reliability, availability, and efficiency of the electric system. In Smart Grid projects today, these technologies are being applied to electric grid applications, involving devices at the consumer level through the transmission level, to make our electric system more responsive and more flexible.

The potential promises ³ of the Smart Grid include, improved reliability and power quality, reduction in peak demand, reduction in transmission congestion costs, the potential for increased energy efficiency, environmental benefits gained by increased asset utilization, increased security, ability to accommodate more renewable energy and increased durability and ease of repair in response to attacks or natural disasters.

³ A smart meter is a good example of an enabling Smart Grid technology that can empower both utilities and consumers to extract value from two-way communications and real-time access to usage data. Smart meters play an important role in the success of the Smart Grid because they can generate an array of useful data including historical energy consumption data, real-time data, convey pricing and control information, and enable a variety of demand response approaches to reduce peak load.

But in order to provide these, and other, benefits that the Smart Grid can offer, utilities and other participants in the nation's electricity infrastructure need to employ adequate communications technologies that serve their needs from both a critical infrastructure and business standpoint. This RFI thus focuses on enhancing DOE's understanding of both what these needs are and how they might best be met.

This RFI seeks to create a dialogue that will help DOE study the communications requirements of electric utilities in order to better inform Federal Smart Grid policy.

The Smart Grid will have many new applications for consumers, retailers, utilities, and others, and it will be composed of several vast, developing, and interrelated systems. The communications requirements of these systems will be a critical component of both the Smart Grid and the other technologies that will evolve and change how electricity is produced, consumed, conserved and distributed. Moreover, just as there is no “one-size-fits-all” utility solution, illustrated by investor-owned, municipally-owned, and rural electric cooperatives—we also cannot expect any “one-size-fits-all” communications solution to accommodate all reasonable Smart Grid implementations and applications.

One of the key technology areas of the Smart Grid is integrated two-way communications, which make the Smart Grid a dynamic, interactive, real-time infrastructure. An open architecture creates a plug-and-play environment that securely networks grid components and operators, enabling them to talk, listen and interact.⁴

⁴ Dep't of Energy, What the Smart Grid Means to You and the People You Serve (Aug. 31, 2009), available at http://www.oe.energy.gov/DocumentsandMedia/Utilities.pdf.

Request for information: DOE seeks information about current and projected communications needs for the Smart Grid from electric utilities, regional transmission operators and other interested parties, as well as the types of networks and communications services they use.

DOE recognizes that many communications and networking technologies can be used in Smart Grid applications, including, but not limited to: fiber optic; microwave; copper lines; satellite; broadband wireless; unlicensed wireless mesh; licensed point-to-point and point-to-multipoint, low latency wireless; Power Line Carrier and Broadband over Power Line; Internet; and, wired broadband. These and other networking technologies can be used by a variety of Smart Grid applications, including, but not limited to: Home Area Networks (HAN); Phasor Measurements and wide area situational awareness; Substation SCADA; Distributed Generation Monitoring and Control; Protective Relaying; Demand Response and Pricing; and Plug-in Electric Vehicles.

DOE also recognizes that while it may be possible to estimate the current required communications needs of the entities now deploying the Smart Grid, it may be unrealistic to precisely quantify their future communications needs, as the Smart Grid is not fully developed and its future requirements or applications may dramatically increase or change. Nevertheless, even unavoidable uncertainty should not deter either DOE, utilities or other interested parties from assessing both current communications needs and the best-available estimates of whether or how they may evolve.

For example, certain Smart Grid and demand response applications have been deployed by utilities for many years.⁵ These applications use a variety of communications technologies, and these technologies may vary from implementation to implementation. These technologies have traditionally involved private networks. Utilities have cited higher rates of survivability following a natural disaster,⁶ the ability to maintain service throughout a utility's service territory,⁷ the lack of priority of services when outages occur,⁸ and the cost of service ⁹ as reasons why commercial services cannot adequately replace private networks.

⁵ Fed. Energy Regulatory Comm'n, Assessment of Demand Response and Advanced Metering, 8, 65 (Dec. 2008), available at http://www.ferc.gov/legal/staff-reports/12-08-demand-response.pdf.

⁶ United Telecomm. Council, Hurricanes of 2005: Performance of Gulf Coast Critical Infrastructure Communications Networks, 2, 24 (Nov. 2006).

⁷ S. Co. Serv. Inc., Comments—National Broadband Plan Public Notice #2, GN Docket No. 09-47, 09-51, and 09-137, 15, 21 (Oct. 2 2009).

⁸ Util. Telecomm. Council, Comments—National Broadband Plan Public Notice #2, GN Docket No. 09-47, 09-51, and 09-137, 11, 24 (Oct. 2 2009).

⁹ Sempra Energy Util., Comments regarding the Implementation of Smart Grid Technology, GN Docket No. 09-47, 09-51, and 09-137, 13, 22 (Oct. 2 2009).

While it appears from comments filed with the FCC that many commenting utilities want to use private, non-commercial networking options, some utilities have also commented that dedicated utility spectrum may be beneficial, but perhaps not essential to continue current Smart Grid deployments like backhaul for meters in an AMI system.¹⁰ One commenter expressed the need for greater industry collaboration to build a better case for dedicated spectrum.¹¹

¹⁰ Util. Telecomm. Council, Comments in response to the National Broadband Plan Public Notice #2, GN Docket No. 09-47, 09-51, and 09-137, 3, 24 (Oct. 2 2009); Nat'l Rural Elec. Coop. Ass'n, Comments in response to the National Broadband Plan Public Notice #2, GN Docket No. 09-47, 09-51, and 09-137, 12, 14 (Oct. 2 2009).

¹¹ S. Co. Serv., Comments in response to the National Broadband Plan Public Notice #2, GN Docket No. 09-47, 09-51, and 09-137, 15, 21 (Oct. 2 2009).

Utilities have also expressed a need for dedicated spectrum for fast power restoration in an emergency or natural disaster, reliable service, and for protection from a cyber attack on the electric grid.¹² DOE thus seeks to better understand this need for dedicated spectrum; what compels the need for additional spectrum in addition to the increased amount of data that utilities are expected to handle as the deployment of Smart Grid applications multiplies.

¹² Nat'l Ass'n of Regulatory Util. Comm'rs, Comments in response to the National Broadband Plan Public Notice #2, GN Docket No. 09-47, 09-51, and 09-137, 3, 11 (Oct. 2 2009).

List of Questions

The following list of questions represents a preliminary attempt to identify and respond to the issues that have been raised in the National Broadband Plan regarding the Smart Grid and DOE, as outlined in the summary of this Inquiry. This list of questions does not represent a determination of the final list of topics that should be addressed to best carry out the recommendations of the Plan. Rather, this list is intended only to assist in the formulation of comments—not to restrict the issues that might be addressed in the comments.

In addressing these questions or others, commenters must also recognize that this RFI is intended to assist and inform DOE's efforts to address the aspects of these questions that most directly implicate the duties and responsibilities assigned by law to DOE and the Secretary of Energy. This qualification is important because all interstate information technologies, including the Smart Grid, inevitably implicate the jurisdiction and expertise of the States and many other federal agencies—a few of the most obvious examples include federal law-enforcement agencies, the Department of Homeland Security, and the FCC. DOE fully intends to respect the jurisdiction and expertise of these and other governmental entities. Consequently, comments directed to matters deemed more relevant to the jurisdiction and expertise of other governmental entities will provide little assistance relevant to this RFI.

(1) What are the current and future communications needs of utilities, including for the deployment of new Smart Grid applications, and how are these needs being met?

(2) What are the basic requirements, such as security, bandwidth, reliability, coverage, latency, and backup, for smart grid communications and electric utility communications systems in general—today and tomorrow? How do these requirements impact the utilities' communication needs?

(3) What are other additional considerations (e.g. terrain, foliage, customer density and size of service territory)?

(4) What are the use cases for various smart grid applications and other communications needs?

(5) What are the technology options for smart grid and other utility communications?

(6) What are the recommendations for meeting current and future utility requirements, based on each use case, the technology options that are available, and other considerations?

(7) To what extent can existing commercial networks satisfy the utilities' communications needs?

(8) What, if any, improvements to the commercial networks can be made to satisfy the utilities' communications needs?

(9) As the Smart Grid grows and expands, how do the electric utilities foresee their communications requirements as growing and adapting along with the expansion of Smart Grid applications?

Issued in Washington, DC, on May 5, 2010.
Scott Blake Harris,
General Counsel.

[FR Doc. 2010-11129 Filed 5-10-10; 8:45 am]

BILLING CODE 6450-01-P